DEPARTMENT OF EDUCATION

[Docket No.: ED-2015-ICCD-0044]

Agency Information Collection Activities; Comment Request; Understanding the Impact of Providing Information to Parents About the Role of Algebra II: An Opportunistic Study

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before June 16, 2015.

ADDRESSES: Comments submitted in response to this notice should be submitted electronically through the Federal eRulemaking Portal at http://www.regulations.gov by selecting Docket ID number ED-2015-ICCD-0044 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Christopher Boccanfuso, (202) 219-1674.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Understanding the Impact of Providing Information to Parents about the Role of Algebra II: An Opportunistic Study.

OMB Control Number: 1850—NEW.

Type of Review: A new information collection.

Respondents/Affected Public: State, Local and Tribal Governments.

Total Estimated Number of Annual Responses: 1,468.

Total Estimated Number of Annual Burden Hours: 132.

Abstract: In June 2013, Texas Governor Rick Perry signed House Bill (HB) 5 into law, which changed high school graduation requirements for public school students in Texas. Prior to this, most students were required to complete algebra II in order to graduate from high school. After the enactment of HB 5, completing algebra II is optional—students may elect to complete algebra II as part of two of the graduation plans offered under HB 5. REL Southwest is working with the Texas Education Agency (TEA) to carry out an opportunistic experiment to determine if directly providing parents/guardians, prior to students' selection of their courses, with information on the importance of completing algebra II for college access and success has an impact on the percentage of students who enroll in and complete algebra II by the end of their junior year. REL Southwest will investigate the impact of providing parents/guardians with information about the role of algebra II in college access and success in a randomized controlled trial in which the treatment schools provide parents/guardians of students with information about the role of algebra II in college access and success, while control schools continue business-as-usual.

Dated: April 14, 2015.
Stephanie Valentine,
Acting Director, Information Collection Clearance Division, Privacy, Information and Records Management Services, Office of Management.

[FR Doc. 2015-08854 Filed 4-16-15; 8:45 am]

BILLING CODE 4000-01-P